DEPARTMENT OF TRANSPORTATION

Federal Aviation Administration

Public Notice for Waiver of Aeronautical Land-Use Assurance; R.I. Bong Memorial Airport; Superior, WI

AGENCY: Federal Aviation Administration, DOT.

ACTION: Notice of intent of waiver with respect to land.

SUMMARY: The Federal Aviation Administration (FAA) is considering a proposal to authorize the sale of a portion of the airport property. Land to be sold comprises 26.67 acres located in the west-northwest portion of the airport. This acreage is not needed for aeronautical use as currently identified on the Airport Layout Plan.

The acreage comprising this parcel was originally acquired under Grant No. FAAP-9-47-022-6202, and AIP 3-55-SBGP-05-96 (Superior 03). The intended use of the property is for construction of a middle school by the School District of Superior (Wisconsin). An environmental assessment was prepared to address construction of the middle school on this acreage, and a Finding of No Significant Impact was issued by the Federal Aviation Administration in March 2001. The City of Superior (Wisconsin), as airport owner, has concluded that the subject airport land is not needed for expansion of airport facilities. There are no impacts to the airport by allowing the airport to dispose of the property. The airport owner wishes to transfer ownership of the land to support construction of the middle school. Revenues received from sale of the property will be applied toward capital improvement projects at the airport in accordance with the Airport Capital Improvement Plan. Approval does not constitute a commitment by the FAA to financially assist in the disposal of the subject airport property nor a determination of eligibility for grant-in-aid funding from the FAA. The disposition of proceeds from the disposal of the airport property will be in accordance with FAA's Policy and procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before March 8, 2004.

FOR FURTHER INFORMATION CONTACT: Mr. Daniel J. Millenacker, Program Manager, Federal Aviation Administration, Airports District Office, 6020 28th Avenue South, Room 102, Minneapolis, MN 55450-2706. Telephone Number (612) 713-4350/FAX Number (612) 713-4364. Documents reflecting this FAA action may be reviewed at this same location or at the City of Superior Public Works Department, 1407 Hammond Avenue, Superior, WI.

SUPPLEMENTARY INFORMATION: Following is a legal description of the subject airport property to be released at R.I. Bong Memorial Airport in Superior, Wisconsin and described as follows:

A parcel of land located in part of the Northwest quarter of the Southwest quarter (NW-SW) and part of the Southeast quarter of the Southwest quarter (SW-SW) of Section 26; and in part of the Southeast quarter of the Southeast quarter (SE-SE) of Section 27; all in Township 49 North, Range 14 West (T49N-R14W), City of Superior, Douglas County, Wisconsin, more particularly described as follows:

Commencing at the West quarter corner of said Section 26; Thence S 89°38′27″ E along the East-West quarter Section line of said Section 26 (and along the North line of the Nesbitt Blocks), 867.72 feet to the intersection with the centerline of West Thirty-fourth street, and the Point of Beginning (P.O.B.) of said parcel to be described; Thence continuing S 89°38′27″ E along said East-West quarter Section line of said Section 26 (and along said North line of the Nesbitt Blocks), 397.11 feet to the intersection with the South-westerly right-of-way of West Thirty-third Street; Thence S 41°35′45″ E along said Southwesterly right-of-way, 80.56 feet; Thence S 0°19′39″ W 30.85 feet; Thence S 36°38′38″ W, 2236.10 feet to the West line of, the Southwest quarter of said section 26; Thence S 36°38′38″ W along a so-called Fence Line Segment (previously described by others), 114.03 feet, more or less, to the South line of the North one-half of the Southeast quarter of the Southeast quarter (SE-SE) of said Section 27; Thence S 89°56′29″ W along said South line, 700.18 feet, more or less, to the intersection with the Southerly extension of the West right-of-way of John Avenue; Thence N 0°05′22″ E along said Southerly extension of the West right-of-way, 330.75 feet, more or less, to the South line of that parcel described in Records V.597 P.466; Thence N 89°56′22″ E, 65.80 feet, more or less, along said South line, Thence N 0°05′22″ E along the East line of said Records V.597 P.466, 330.76 feet, more or less, to the North line of the Southeast quarter of the Southeast quarter (SE-SE) of said Section 27; Thence N 89°56′24″ E along said North line, 706.37 feet, more or less, to the West line of the Southwest quarter of said Section 26; Thence N 45°29′56″ E, 46.67 feet to the East right-of-way of Hammond Avenue; Thence N 0°29′56″ E along said East right-of-way, 236.56 feet to the intersection with the centerline of Dakota Avenue (note: Dakota Avenue is referred to as Dakota Avenue on the Plat of the Nesbitt Blocks; it is referred to as Kansas Avenue on the Plat of Southwestern Division); Thence N 48°30′33″ E along said centerline, 1326.68 feet to the intersection with the centerline of West Thirty-fourth Street; Thence N 41°29′34″ W along said centerline, 226.22 feet to the P.O.B.

Said parcel contains 1,158,222 square feet (26.589 acres), more or less.

Said parcel subject to all easements, restrictions, and reservations of record.

Said P.O.B. bears N 21°35′25″ E, 3841.64 feet from the Southeasterly end of Runway 3-21 of the R. I. Bong Memorial Airport.

Said P.O.B. bears S 72°19′30″ W, 1711.47 feet from the Northeasterly end of Runway 3-21 of the R. I. Bong Memorial Airport.

Issued in Minneapolis, MN, on January 12, 2004.
Nancy Nistler,
Manager, Minneapolis Airports District Office, FAA, Great Lakes Region.

[FR Doc. 04-2447 Filed 2-4-04; 8:45 am]

BILLING CODE 4910-13-M